POSTAL REGULATORY COMMISSION

Sunshine Act Meetings

TIME AND DATE: Wednesday, March 9, 2011, at 11 a.m.

PLACE: Commission hearing room, 901 New York Avenue, NW., Suite 200, Washington, DC 20268-0001.

STATUS: Part of this meeting will be open to the public. The rest of the meeting will be closed to the public. The open part of the meeting will be audiocast. The audiocast can be accessed via the Commission's Web site at http://www.prc.gov.

MATTERS TO BE CONSIDERED: The agenda for the Commission's March 2011 meeting includes the items identified below.

PORTIONS OPEN TO THE PUBLIC: 1. Review of active cases.

2. Report on recent activities of the Joint Periodicals Task Force and status of the report to the Congress pursuant to Section 708 of the PAEA.

3. Review of postal-related congressional activity.

4. Report on Legislative Review.

5. Report on contracts to study the social benefit of the mail.

6. Report on international activities.

PORTIONS CLOSED TO THE PUBLIC: 7. Discussion of pending litigation.

8. Discussion of confidential personnel issues.

9. Discussion of contracts involving confidential commercial information.

CONTACT PERSON FOR MORE INFORMATION: Stephen L. Sharfman, General Counsel, Postal Regulatory Commission, 901 New York Avenue, NW., Suite 200, Washington, DC 20268-0001, at 202-789-6820 (for agenda-related inquiries) and Shoshana M. Grove, Secretary of the Commission, at 202-789-6800 or shoshana.grove@prc.gov (for inquiries related to meeting location, access for handicapped or disabled persons, the audiocast, or similar matters).

Dated: February 25, 2011.
By the Commission.
Ruth Ann Abrams,
Acting Secretary.

[FR Doc. 2011-4696 Filed 2-25-11; 4:15 pm]

BILLING CODE 7710-FW-P